Proclamation 10090 of September 30, 2020

National Substance Abuse Prevention Month, 2020

By the President of the United States of America

A Proclamation

Addiction to alcohol, illicit drugs, and prescription medications fuels havoc, heartache, and hopelessness in the lives of far too many Americans, as well as their friends and family members. During National Substance Abuse Prevention Month, we renew our unyielding commitment to breaking the grip of alcohol and drug addiction. Through our continued national effort, we will save lives and work to ensure a stronger and healthier country.

It has been my priority and promise to win the critical battle against opioid misuse, which has ravaged our Nation for too long. In total, close to 400,000 Americans have lost their lives to opioid overdoses since the turn of the century. While one life lost to drug addiction is too many, nearly half a million is unconscionable. In response, I declared a Public Health Emergency and initiated a whole-of-government approach dedicated to ending this tragedy. To bolster this effort, I signed the Substance Use-Disorder Prevention that Promotes Opioid Recovery and Treatment (SUPPORT) for Patients and Communities Act, a law that reduces access to opioids while expanding access to prevention, treatment, and recovery services. The SUPPORT Act is the single largest commitment to combatting the drug crisis in our Nation's history, and it is making a difference.

In addition to the opioids public health emergency, my Administration is also advancing several initiatives to address substance abuse more broadly. We have strengthened the Drug-Free Communities program, which provides grants that mobilize communities to prevent youth substance use at the local level. We created the Rural Community Toolbox, which is an online resource that connects small town leaders with funding, data, and information to combat drug addiction in rural America. And the High Intensity Drug Trafficking Area (HIDTA) Program is collaborating with community-based organizations and coalitions to fund evidence-based and evidence-informed prevention activities within the HIDTA communities. These initiatives, along with actions taken by State, local, tribal, and territorial stakeholders, including faith-based organizations, are helping families and communities save lives by engaging young people most at risk of developing a substance use disorder.

As our Nation continues its unprecedented fight against the coronavirus pandemic, we are acutely aware of how isolation affects mental health and can encourage the misuse of legal and illegal substances. Through collaborative, community-based efforts, we are strengthening the support systems that deter our Nation's young people from drug use and improve overall mental health and wellness.

This month, we pause to remember the lives lost to addiction, and recommit to protecting all Americans—particularly our Nation's young people—from the devastating effects drugs can have on them and their loved ones. We also commend the healthcare professionals, law enforcement officials, educators, family members, and community volunteers who raise awareness about the risks and dangers of alcohol and drug use, treat the afflicted, and support prevention. Together, we will build healthy families, safe neighborhoods, and thriving communities by preventing substance misuse.

NOW, THEREFORE, I, DONALD J. TRUMP, President of the United States of America, by virtue of the authority vested in me by the Constitution and the laws of the United States, do hereby proclaim October 2020 as National Substance Abuse Prevention Month. I call upon the people of the United States to observe this month with appropriate programs, ceremonies, and activities.

IN WITNESS WHEREOF, I have hereunto set my hand this thirtieth day of September, in the year of our Lord two thousand twenty, and of the Independence of the United States of America the two hundred and forty-fifth.

[FR Doc. 2020-22196

Filed 10-5-20; 8:45 am]

Billing code 3295-F1-P